DEPARTMENT OF COMMERCE

National Oceanic and Atmospheric Administration

[RTID 0648-XF070]

Western Pacific Fishery Management Council; Public Meetings

AGENCY: National Marine Fisheries Service (NMFS), National Oceanic and Atmospheric Administration (NOAA), Commerce.

ACTION: Notice of public meeting.

SUMMARY: The Western Pacific Fishery Management Council (Council) will hold its American Samoa Archipelago Fishery Ecosystem Plan (FEP) Advisory Panel (AP), Mariana Archipelago FEP Commonwealth of the Northern Mariana Islands (CNMI) AP, Hawaii Archipelago and Pacific Remote Island Areas (PRIA) FEP AP, Fishing Industry Advisory Committee (FIAC), and Mariana Archipelago FEP Guam AP to discuss and make recommendations on fishery management issues in the Western Pacific Region.

DATES: The meetings will be held between September 2 and September 6, 2025. For specific times and agendas, see SUPPLEMENTARY INFORMATION.

ADDRESSES: The Council will hold its American Samoa Archipelago FEP AP, Hawaii Archipelago and PRIA FEP AP, Mariana Archipelago FEP CNMI AP, FIAC, and Mariana Archipelago FEP Guam AP meetings in a hybrid format with in-person and remote participation (Webex) options available for the members and the public. In person attendance (for members and public) for the Hawaii Archipelago and PRIA FEP AP, and FIAC meetings will be hosted at the Council Office, 1164 Bishop St Suite 1400, Honolulu, Hawaii, 96813. In-person attendance for the American Samoa Archipelago FEP AP and public will be hosted at the Tedi of Samoa Suite 208B, P8C6+V2F, Fagotogo Village, AS, 96799. In-person attendance for the Mariana Archipelago FEP CNMI AP and public will be hosted at BRI Building Suite 205, Kopa Di Oru St., Garapan, Saipan, 96950. In-person attendance for the Mariana Archipelago FEP Guam AP and public will be hosted at Cliff Pointe, 304 W. O'Brien Drive, Hagatña, GU, 96910. Instructions for connecting to the web conference and providing oral public comments will be posted on the Council website at www.wpcouncil.org. For assistance with the web conference connection, contact the Council office at (808) 522-8220.

FOR FURTHER INFORMATION CONTACT: Contact Kitty M. Simonds, Executive Director, Western Pacific Fishery Management Council; phone: (808) 522-8220.

SUPPLEMENTARY INFORMATION: The American Samoa FEP AP will be held between 6 p.m. and 8 p.m. (Samoa Standard Time [SST]) on Tuesday, September 2, 2025. The Mariana Archipelago FEP CNMI AP will be held between 6 p.m. and 8 p.m. (Chamorro Standard Time [ChST]) on Wednesday, September 3, 2025. The Hawaii Archipelago and PRIA FEP AP will be held between 9 a.m. and 1 p.m. (Hawaii Standard Time [HST]) on Wednesday, September 3, 2025. The FIAC will be held between 2 p.m. and 5 p.m. (HST) on Thursday, September 4, 2025. The Mariana Archipelago FEP Guam AP will be held between 10 a.m. and 12 p.m. noon (ChST) on Saturday, September 6, 2025.

Public Comment periods will be provided in the agendas. The order in which agenda items are addressed may change. The meetings will run as late as necessary to complete scheduled business.

Schedule and Agenda for the American Samoa Archipelago FEP AP Meeting

Tuesday, September 2, 2025, 6 p.m. to 8 p.m. (SST)

1. Welcome and Introductions

2. Review of the Last AP Recommendation and Meeting

3. Council Fisheries Issues

A. Social, Economic, Ecological, and Management (SEEM) Process Review Report

4. Council Inflation Reduction Act (IRA) Project Update

A. Scenario Planning

B. Regulatory Review

C. Protected Species

D. Community Consultation

5. Deep Sea Mining in American Samoa

6. AP Strategic Planning for 2025

7. Public Comment

8. Discussion and Recommendations

9. Other Business

Schedule and Agenda for the Mariana Archipelago FEP CNMI AP Meeting

Wednesday, September 3, 2025, 6 p.m. to 8 p.m. (ChST)

1. Welcome and Introductions

2. Review of the Last AP Recommendation and Meeting

3. Council Fisheries Issues

A. SEEM Process Review Report

B. CNMI Bottomfish Annual Catch Limit Specifications for 2026 to 2029

4. Council IRA Project Update

A. Scenario Planning

B. Regulatory Review

C. Protected Species

D. Community Consultation

6. AP Strategic Planning for 2025

7. Public Comment

8. Discussion and Recommendations

9. Other Business

Schedule and Agenda for the Hawaii Archipelago and PRIA FEP AP Meeting

Wednesday, September 3, 2025, 9 a.m. to 1 p.m. (HST)

1. Welcome and Introductions

2. Review of the Last AP Recommendation and Meeting

3. Council Fisheries Issues

A. SEEM Process Review Report

B. Shortline Fishing

C. Shark Depredation

4. Council IRA Project Update

A. Scenario Planning

B. Regulatory Review

C. Protected Species

D. Community Consultation

5. AP Strategic Planning for 2025

6. Public Comment

7. Discussion and Recommendations

8. Other Business

Schedule and Agenda for the FIAC Meeting

Thursday, September 4, 2025, 2 p.m. to 5 p.m. (HST)

1. Welcome and Introductions

2. Status Report on Previous FIAC Recommendations

3. Roundtable Update on Fishing/Market Issues/Impacts

4. Update on Electronic Monitoring Implementation

5. Hawaii Shortline Management Meeting Outcomes

6. Shark Depredation Studies Overview

7. State Seafood Labeling Law and Implementation

8. Council IRA Project Updates

A. Scenario Planning

B. Regulatory Review

C. Protected Species

D. Community Consultation

9. Other Business

10. Public Comment

11. Discussion and Recommendations

Schedule and Agenda for the Mariana Archipelago FEP Guam AP Meeting

Saturday, September 6, 2025, 10 a.m. to 12 p.m. (ChST)

1. Welcome and Introductions

2. Review of the Last AP Recommendation and Meeting

3. Council Fisheries Issues

A. SEEM Process Review Report

4. Council IRA Project Update

A. Scenario Planning

B. Regulatory Review

C. Protected Species

D. Community Consultation

6. AP Strategic Planning for 2025

A. Guam Military Working Group Update

7. Public Comment

8. Discussion and Recommendations

9. Other Business

Special Accommodations

These meetings are accessible to people with disabilities. Requests for sign language interpretation or other auxiliary aids should be directed to Kitty M. Simonds, (808) 522-8220 (voice) or (808) 522-8226 (fax), at least 5 days prior to the meeting date.

(Authority: 16 U.S.C. 1801 et seq.

Dated: August 7, 2025.
Rey Israel Marquez,
Acting Deputy Director, Office of Sustainable Fisheries, National Marine Fisheries Service.

[FR Doc. 2025-15197 Filed 8-8-25; 8:45 am]

BILLING CODE 3510-22-P